DEPARTMENT OF THE INTERIOR

Fish and Wildlife Service

[FWS-R8-ES-2017-N087; FXES11130800000-178-FF08EVEN00]

Receipt of Application for Incidental Take Permit; Low-Effect Habitat Conservation Plan for the Laguna County Sanitation District, Santa Barbara County, California

AGENCY: Fish and Wildlife Service, Interior.

ACTION: Notice of receipt of permit application; request for comments.

SUMMARY: We, the U.S. Fish and Wildlife Service (Service), have received an application from Laguna County Sanitation District, for an incidental take permit under the Endangered Species Act of 1973, as amended. The permit would authorize take of the federally endangered California tiger salamander (Santa Barbara distinct population segment) and the federally threatened California red-legged frog incidental to otherwise lawful activities associated with the Laguna County Sanitation District Project Habitat Conservation Plan. We invite public comment.

DATES: Written comments should be received on or before August 16, 2017.

ADDRESSES:

To obtain documents: You may download a copy of the draft habitat conservation plan and draft low-effect screening form and environmental action statement on the Internet at http://www.fws.gov/ventura/, or you may request copies of the documents by U.S. mail to our Ventura office, or by phone (see FOR FURTHER INFORMATION CONTACT).

To submit written comments: Please send us your written comments using one of the following methods:

• U.S. mail: Send your comments to: Stephen P. Henry, Field Supervisor, Ventura Fish and Wildlife Office, U.S. Fish and Wildlife Service, 2493 Portola Road, Suite B, Ventura, CA 93003.

• Facsimile (fax): Fax your comments to (805) 644-3958.

FOR FURTHER INFORMATION CONTACT: Rachel Henry, Fish and Wildlife Biologist, at the above address or by calling (805) 677-3312.

SUPPLEMENTARY INFORMATION: We have received an application from Laguna County Sanitation District (applicant), for an incidental take permit under the Endangered Species Act of 1973, as amended (16 U.S.C. 1531 et seq.; Act). The applicant has agreed to follow all of the conditions in the habitat conservation plan for the project. The permit would authorize take of the Santa Barbara distinct population segment of the federally endangered California tiger salamander (Ambystoma californiense) and the federally threatened California red-legged frog (Rana draytonii) incidental to otherwise lawful activities associated with the Laguna County Sanitation District Project Habitat Conservation Plan (HCP). We invite public comment on the application, the draft habitat conservation plan, draft low-effect screening form, and environmental action statement.

Background

The Santa Barbara distinct population segment of the California tiger salamander was listed by the Service as endangered on September 21, 2000 (65 FR 57242). The California red-legged frog was listed by the Service as threatened on May 23, 1996 (61 FR 25813). Section 9 of the Act and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed species. “Incidental take” is defined by the Act as take that is incidental to, and not the purpose of, carrying out of an otherwise lawful activity. Regulations governing incidental take permits for threatened and endangered species are in the Code of Federal Regulations at 50 CFR 17.32 and 17.22, respectively. Under the Act, protections for federally listed plants differ from the protections afforded to federally listed animals. Issuance of an incidental take permit also must not jeopardize the existence of federally listed fish, wildlife, or plant species. All species included in the incidental take permit would receive assurances under our “No Surprises” regulations (50 CFR 17.22(b)(5) and 17.32(b)(5)).

The applicant has applied for a permit for incidental take of the California tiger salamander and California red-legged frog. The potential taking would occur as a result of activities associated with the construction of the farm labor camp in suitable habitat for the covered species.

Our Preliminary Determination

The Service has made a preliminary determination that issuance of the permit is neither a major Federal action that will significantly affect the quality of the human environment within the meaning of section 102(2)(C) of the National Environmental Policy Act (42 U.S.C. 4321 et seq.; NEPA), nor will it individually or cumulatively have more than a negligible effect on the species covered in the HCP. Therefore, the permit qualifies for a categorical exclusion under NEPA.

Public Comments

If you wish to comment on the permit application, plan, and associated documents, you may submit comments by one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10 of the Act (16 U.S.C. 1531 et seq.) and NEPA regulations (40 CFR 1506.6).

Dated: July 11, 2017.
Stephen P. Henry,
Field Supervisor, Ventura Fish and Wildlife Office, Ventura, California.

[FR Doc. 2017-14926 Filed 7-14-17; 8:45 am]

BILLING CODE 4333-15-P